DEPARTMENT OF THE INTERIOR

National Park Service

National Register of Historic Places; Notification of Pending Nominations and Related Actions

Nominations for the following properties being considered for listing or related actions in the National Register were received by the National Park Service before July 25, 2009. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 26, 2009.

J. Paul Loether,
Chief, National Register of Historic Places/National, Historic Landmarks Program.

ARIZONA

Pima County

Steam Pump Ranch, (Cattle Ranching in Arizona MPS) 10901 Oracle Rd., Oro Valley, 9000668

COLORADO

Montrose County

Denver & Rio Grande Western Railroad Boxcar No. 3132, Approx. 1 mi. N. by NE. of US 50 at Cimarron, near Marrow Point Dam Rd., Curecanti National Recreation Center, Cimarron, 09000669

FLORIDA

Lee County

Menge-Hansen Marine Ways, 5605 Palm Beach Blvd., Fort Myers, 09000670

Manatee County

Helm, Johnson, House, 2104 53rd St., Bradenton, 09000671

Orange County

Atha, S. Howard, House, 1101 W. Princeton St., Orlando, 09000672

KANSAS

Dickinson County

Abilene Downtown Historic District, Roughly bounded by NE 4th, W. 1st, S. Walnut, and N. Olive St., Abilene, 09000673

Douglas County

Plymouth Congregational Church, (Lawrence, Kansas MPS) 925 Vermont St., Lawrence, 09000674

Sedgwick County

Newbern-Gore House, (Residential Resources of Wichita, Sedgwick County, Kansas 1870-1957) 400 S. Roosevelt, Wichita, 09000675

Powell House, (Residential Resources of Wichita, Sedgwick County, Kansas 1870-1957) 330 N. Crestway, Wichita, 09000676

Woodburn House, (Residential Resources of Wichita, Sedgwick County, Kansas 1870-1957) 574 N. Brookfield, Wichita, 09000677

MICHIGAN

Berrien County

Buchanan Downtown Historic District, Front St., between 117 W. and 256 E.; parts of Main St., between 108 and 210-212; Oak St. between 114 N., Buchanan, 09000678

Mason County

SS BADGER (carferry), 700 S. William St., Ludington, 09000679

Wayne County

Dry Dock Engine Works—Detroit Dry Dock Company Complex, 1801-1803 Atwater St. and 1900 Atwater St., Detroit, 09000680

MISSOURI

Howard County

Fayette Residential Historic District, (Historic and Architectural Resources of Fayette, issouri) Roughly bounded by Church St., W. Morrison St. and Cleveland Ave., Fayette, 09000681

Jackson County

Dean, O.H., Building, 3625-3635 Main St., Kansas City, 09000682

MONTANA

Mineral County

Point of Rocks Historic Transportation Corridor, 2 mi. W. of Alberton, Alberton, 09000683

NORTH CAROLINA

Lenoir County

Kennedy Memorial Home Historic District, 2557 Ceder Dell La., Kinston, 09000684

McDowell County

Brown, Henry Seawell, and Mary Jane English, Farmstead, 15956 US 221 N., Ashford, 09000685

OKLAHOMA

Oklahoma County

Jewel Theater, 904 NE 4th St., Oklahoma City, 09000686

Tulsa County

Sixth Street Commercial/Residential Historic District, Roughly along E. 6th St. from S. Peoria Ave. to the N./S. Alley between Quaker and Quincy Aves., Tulsa, 09000687

VIRGINIA

Arlington County

Arlington Ridge Park, (Parkways of the National Capital Region MPS) NW corner of N. Meade St. and Marshall Dr., Arlington, 09000688

King and Queen County

Providence Plantation and Farm, 1302 Roundabout Rte., Newtown, 09000689

Norfolk Independent city

American Cigar Company, 1148 E. Princess Anne Rd., Norfolk, 09000690

Request for REMOVAL has been made for the following resources:

UTAH

Millard County

Millard High School Gymnasium, 35 N. 200 W., Fillmore, 85000808

Salt Lake County

Building at 592-98 West 200 South, 592-98 W. 200 S., Salt Lake City, 82004134

Sevier County

Ramsay, Ralph, House, 57 E. 2nd N., Richfield, 75001824

Utah County

Stratton House-Orem City Hall, 870 W. Center, Orem, 98000674

[FR Doc. E9-19118 Filed 8-10-09; 8:45 am]

BILLING CODE P